DEPARTMENT OF THE INTERIOR

National Park Service

[NPS-WASO-NAGPRA-NPS0027715; PPWOCRADN0-PCU00RP14.R50000]

Notice of Intent To Repatriate Cultural Items: U.S. Department of the Interior, Bureau of Indian Affairs, Washington, DC

AGENCY: National Park Service, Interior.

ACTION: Notice.

SUMMARY: The U.S. Department of the Interior, Bureau of Indian Affairs, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Bureau of Indian Affairs. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Bureau of Indian Affairs at the address in this notice by June 6, 2019.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

From 1967 to 1983, the Bureau of Indian Affairs (BIA) issued Antiquities Act permits authorizing excavations in the Black Mesa region of Arizona for the purpose of mining coal deposits. The Black Mesa Archaeological Project (BMAP), conducted by staff and students from Prescott College and, later, Southern Illinois University at Carbondale (SIU), gathered archeological and anthropological data on Black Mesa. Initially, the collections were housed at Prescott College. In 1974, Prescott College declared bankruptcy and closed. In 1976, after being housed at Fort Lewis College in Durango, CO, for one year, the BMAP collections and records were transferred to SIU. In October 2018, the BMAP cultural items were transferred to the Museum of Northern Arizona in Flagstaff.

In July 1971, three cultural items were removed from a site on or near Black Mesa in Navajo County, AZ. The individual removed during the excavation, an unnamed infant from the Begay family, was reburied in a cemetery in Fort Defiance, AZ, at the request of his maternal grandmother, Bessie Begay. The three unassociated funerary objects are cloth fragments from burial blankets.

In July 1971, 110 cultural items were removed from a site on or near Black Mesa in Navajo County, AZ. The individual removed during the excavation, Etsitty Begay, was reburied in a cemetery in Fort Defiance, AZ, at the request of his son, Fred Smith. The 110 unassociated funerary objects include saddle parts, sediment, fabric and leather fragments, metal cans and metal fragments, one mano, and glass fragments.

In July 1971, 33 cultural items were removed from a site on or near Black Mesa in Navajo County, AZ. The individual removed during the excavation, Many Mule's Daughter, was reburied in a cemetery in Fort Defiance, AZ, at the request of her daughter, Bessie Begay. The 33 unassociated funerary objects include a wooden brush, two shoes, soil samples, mano fragments, fabric samples, and juniper berries.

Documentary evidence shows that all the unassociated funerary objects were removed from burials of three individuals who were all enrolled members of the Navajo Nation, Arizona, New Mexico & Utah. Consultation with the Navajo Nation, Arizona, New Mexico & Utah provided further confirmation.

Determinations Made by the U.S. Department of the Interior, Bureau of Indian Affairs

Officials of the U.S. Department of the Interior, Bureau of Indian Affairs have determined that:

• Pursuant to 25 U.S.C. 3001(3)(B), the 146 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Navajo Nation, Arizona, New Mexico & Utah.

Additional Requestors and Disposition

Lineal descendants or representatives of any Indian Tribe or Native Hawaiian organization not identified in this notice that wish to claim these cultural items should submit a written request with information in support of the claim to Anna Pardo, Museum Program Manager/NAGPRA Coordinator, U.S. Department of the Interior, Bureau of Indian Affairs, 12220 Sunrise Valley Drive, Room 6084, Reston, VA 20191, telephone (703) 390-6343, email Anna.Pardo@bia.gov, by June 6, 2019. After that date, if no additional claimants have come forward, transfer of control of the unassociated funerary objects to the Navajo Nation, Arizona, New Mexico & Utah may proceed.

The U.S. Department of the Interior, Bureau of Indian Affairs is responsible for notifying the Navajo Nation, Arizona, New Mexico & Utah that this notice has been published.

Dated: April 16, 2019.
Melanie O'Brien,
Manager, National NAGPRA Program.

[FR Doc. 2019-09306 Filed 5-6-19; 8:45 am]

BILLING CODE 4312-52-P